DEPARTMENT OF AGRICULTURE

National Agricultural Statistics Service

Notice of Intent To Revise a Currently Approved Information Collection

AGENCY: National Agricultural Statistics Service, USDA.

ACTION: Notice of Change.

SUMMARY: In accordance with the Paperwork Reduction Act of 1995 (Pub. L. 104-13) and Office of Management and Budget regulations at 5 CFR part 1320 (60 FR 44978, August 29, 1995), this notice announces the intention of the National Agricultural Statistics Service (NASS) to revise a currently approved information collection, Field Crops Production.

DATES: Comments on this notice must be received by August 19, 2002, to be assured of consideration.

ADDRESSES: Comments may be mailed to Ginny McBride, NASS OMB Clearance Officer, U.S. Department of Agriculture, Room 5336 South Building, 1400 Independence Avenue SW, Washington, DC 20250 or sent electronically to gmcbride@nass.usda.gov.

FOR FURTHER INFORMATION CONTACT: Rich Allen, Associate Administrator, National Agricultural Statistics Service, U.S. Department of Agriculture, (202) 720-4333.

SUPPLEMENTARY INFORMATION: Title: Field Crops Production.

OMB Control Number: 0535-0002.

Expiration Date of Approval: 12/31/04.

Type of Request: Intent to revise a currently approved information collection.

Abstract: The National Agricultural Statistics Service is responsible for collecting and issuing State and national estimates of crop and livestock production, grain stocks, farm numbers, land values, on-farm pesticide usage, and pest crop management practices. The Field Crops Production program consists of probability field crops surveys and supplemental panel surveys which capture unique crop characteristics such as the concentration of crops in localized geographical areas. The Program is being revised to discontinue the November and December tobacco forecasts. NASS will no longer forecast tobacco acreage, yield, and production in the November and December Crop Production reports. All types of tobacco are affected in November, whereas only burley tobacco is affected in December. Final production estimates will continue to be published for all types of tobacco in the Annual Crop Production report, released on or about January 10 each year. Annual tobacco revisions will continue to be published in the May Crop Production report.

Estimate of Burden: Public reporting burden for this collection of information is estimated to average 14 minutes per response.

Respondents: Farms.

Estimated Number of Respondents: 536,000.

Estimated Total Annual Burden on Respondents: 150,000 hours.

These data will be collected under the authority of 7 U.S.C. 2204(a). Individually identifiable data collected under this authority are governed by section 1770 of the Food Security Act of 1985, 7 U.S.C. 2276, which requires USDA to afford strict confidentiality to non-aggregated data provided by respondents.

Copies of this information collection and related instructions can be obtained without charge from Ginny McBride, NASS OMB Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. All responses to this notice will become a matter of public record and be summarized in the request for OMB approval.

Dated: May 28, 2002.
Rich Allen,
Associate Administrator.

[FR Doc. 02-14735 Filed 6-11-02; 8:45 am]

BILLING CODE 3410-20-P